DEPARTMENT OF EDUCATION

Office of Special Education and Rehabilitative Services; List of Correspondence

AGENCY: Department of Education.

ACTION: List of Correspondence from October 1, 2008 through December 31, 2008.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laura Duos or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION:

The following list identifies correspondence from the Department issued from October 1, 2008 through December 31, 2008. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part A—General Provisions

Section 602—Definitions

Topic Addressed: Highly Qualified

○ Letter dated December 15, 2008 to National Association of Private Special Education Centers Executive Director and CEO Sherry Kolbe, concerning requirements for highly qualified special education teachers and assessments of children with disabilities.

Part B—Assistance for Education of All Children With Disabilities

Section 611—Authorization; Allotment; State-Level Activities; Authorization of Appropriations

Topic Addressed: State-Level Activities

○ Letter dated December 11, 2008 to Louisiana State Department of Education Acting Director of Division of Educational Improvement and Assistance Susan W. Batson, concerning the use of funds reserved for State-level activities for professional development to implement Louisiana's Positive Behavior Supports Initiative.

Section 613—Local Educational Agency Eligibility

Topic Addressed: Use of Funds

○ Letter dated October 31, 2008 to Fiscal and Policy Advisor for Rural and Sparsely Populated Consortium of California James Kennedy, concerning the excess cost and supplement-not-supplant requirements in Part B of the IDEA that apply to local educational agencies (LEAs).

Topic Addressed: Early Intervening Services

○ Office of Special Education Programs (OSEP) Memorandum 08-09, dated July 28, 2008 to Chief State School Officers, entitled Coordinated Early Intervening Services Under Part B of the Individuals with Disabilities Education Act.

Section 614—Evaluations, Eligibility Determinations, Individualized Education Programs, and Educational Placements

Topic Addressed: Parental Consent

○ Letter dated November 17, 2008 to Harrisburg, Pennsylvania attorney Jeffrey F. Champagne, clarifying the parental consent requirements in Part B of the IDEA that apply when children with disabilities receive special education and related services in preschool from an intermediate educational unit and subsequently receive special education and related services in kindergarten from a school district.

Section 615—Procedural Safeguards

Topic Addressed: Due Process Complaints

○ Letter dated October 30, 2008 to Maryland Assistant State Superintendent for the Division of Special Education/Early Intervention Services Carol Ann Baglin, clarifying that an LEA may not require a confidentiality agreement as a precondition to holding a resolution meeting.

○ Letter dated December 11, 2008 to individuals (personally identifiable information redacted), clarifying when a parent or an LEA may file a due process complaint regarding an individualized education program (IEP) that is not the child's most recent IEP.

Topic Addressed: Independent Educational Evaluations

○ Letter dated December 11, 2008 to Lehigh University Professor Perry A. Zirkel, clarifying when a parent of a child suspected of having a specific learning disability has the right to an independent educational evaluation at public expense under Part B of the IDEA.

Section 616—Monitoring, Technical Assistance, and Enforcement

Topic Addressed: Correction Of Noncompliance

○ OSEP Memorandum 09-02 dated October 17, 2008 to Chief State School Officers, entitled Reporting on Correction of Noncompliance in the Annual Performance Report Required under Sections 616 and 642 of the Individuals with Disabilities Education Act.

○ Letter dated October 31, 2008 to Mountain Plains Regional Resource Center Director John Copenhaver, clarifying the Department's authority to require States to ensure that their LEAs correct all identified noncompliance with the requirements of the IDEA.

Section 618—Program Information

Topic Addressed: Significant Disproportionality

○ Letter dated November 4, 2008 to Montana Office of Public Instruction Department of Special Education Services Assistant Superintendent Robert Runkel, concerning methods for the collection and examination of data in making determinations of significant disproportionality under Part B of the IDEA.

Part D—National Activities To Improve Education of Children With Disabilities

Section 674—Technology Development, Demonstration, and Utilization; Media Services; and Instructional Materials

Topic Addressed: National Instructional Materials Access Center

○ Letter dated November 14, 2008 to American Printing House for the Blind, Inc. President Dr. Tuck Tinsley, concerning the National Instructional Materials Access Center's (NIMAC) eligibility requirements for authorized users of NIMAC's database.

Other Letters That Do Not Interpret the Idea But May Be of Interest to Readers

Topic Addressed: Report Cards and Transcripts

○ Dear Colleague Letter dated October 17, 2008 from former Assistant Secretary of the Department's Office for Civil Rights Stephanie J. Monroe, concerning whether information about students' disabilities and receipt of special education and related services may be disclosed on report cards and transcripts.

Topic Addressed: Family Educational Rights and Privacy Act

○ Dear Colleague letter dated December 17, 2008 from former Deputy Secretary Raymond Simon, providing a brief summary of the final regulations for the Family Educational Rights and Privacy Act that were published in the Federal Register on December 9, 2008 (73 FR 74806).

Electronic Access to This Document

You can view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Delegation of Authority: The Secretary of Education has delegated authority to Andrew J. Pepin, Executive Administrator for Special Education and Rehabilitative Services to perform the functions of the Assistant Secretary for Special Education and Rehabilitative Services.

Dated: August 31, 2009.
Andrew J. Pepin,
Executive Administrator for Special Education and Rehabilitative Services.

[FR Doc. E9-21437 Filed 9-3-09; 8:45 am]

BILLING CODE 4000-01-P